DEPARTMENT OF ENERGY

Federal Energy Regulatory Commission

[Project No. 13525-000]

Green Hydropower Inc.; Notice of Preliminary Permit Application Accepted for Filing and Soliciting Comments, Motions To Intervene, and Competing Applications

October 30, 2009.

On June 23, 2009, and supplemented on October 15, 2009, Green Hydropower Inc. filed an application for a preliminary permit, pursuant to section 4(f) of the Federal Power Act (FPA)¹ to study the feasibility of the proposed Green Hydropower Chief Joseph Project. The project would be located in Douglas and Okanogan Counties, Washington. The sole purpose of a preliminary permit, if issued, is to grant the permit holder priority to file a license application during the permit term. A preliminary permit does not authorize the permit holder to perform any land disturbing activities or otherwise enter upon lands or waters owned by others without the owners' express permission.

¹ 16 U.S.C. 797(f). Three years is the maximum term for a preliminary permit. See FPA Section 5, 16 U.S.C. 798.

The proposed Green Hydropower Chief Joseph Project is an in-river development that would be located approximately 1 mile downstream of the U.S. Army Corps of Engineers' Chief Joseph Dam on the Columbia River. The project would consist of: (1) Multiple 10-foot-diameter to 40-foot diameter sea anchors (pieces of high-strength synthetic material that inflate to roughly the shape of a parachute in the presence of an underwater current); (2) up to 1.25-mile long synthetic rope; (3) an electric driven traction winch or an electric-driven capstan; (4) a 1 to 2-megawatt generator attached to the winch or capstan; (5) a floating vessel, such as a boat; (6) a new approximately 480-volt, 1,500-foot-long transmission line; and (7) appurtenant facilities. The sea anchors would be attached to a rope that is connected to the winch or capstan. The winch or capstan would be mounted on shore or on a floating vessel. The sea anchors would be pulled downstream by the existing current, pulling the rope through a winch or capstan, which will turn the generator. The project would have an estimated annual generation of between 8,750 megawatt-hours (MWh) and 17,500 MWh per year.

Applicant Contact: Mr. Joseph Allan Francis, Owner, Green Hydropower Inc., 5316 North Shirley Street, Ruston, WA 98407; phone: (253) 732-6532.

FERC Contact: Jennifer Harper, 202-502-6136.

Deadline for filing comments, motions to intervene, competing applications (without notices of intent), or notices of intent to file competing applications: Sixty days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of Commission's Web site at http://www.ferc.gov/docs-filing/elibrary.asp. Enter the docket number (P-13525) in the docket number field to access the document. For assistance, call toll-free 1-866-208-3372.

Kimberly D. Bose,
Secretary.

[FR Doc. E9-26741 Filed 11-5-09; 8:45 am]

BILLING CODE 6717-01-P